DEPARTMENT OF HOMELAND SECURITY

Transportation Security Administration

[Docket Nos. TSA-2004-19166 and TSA-2004-17982]

Privacy Act of 1974: System of Records; Transportation Security Threat Assessment System (T-STAS) and Registered Traveler (RT) Operations Files

AGENCY: Transportation Security Administration (TSA), DHS.

ACTION: Notice to alter two existing systems of records; request for comments.

SUMMARY: TSA is altering two existing systems of records under the Privacy Act of 1974. The revisions affect the Transportation Security Threat Assessment System (T-STAS), DHS/TSA 002, and Registered Traveler (RT) Operations Files, DHS/TSA 015, and will update the “Categories of individuals covered by the system” section for both systems, and the “Categories of records in the system” section for the T-STAS system.

DATES: Submit comments by December 8, 2005.

ADDRESSES: You may submit comments, identified by the TSA docket numbers to this rulemaking, using any one of the following methods:

Comments Filed Electronically: You may submit comments through the docket Web site at http://dms.dot.gov. You also may submit comments through the Federal eRulemaking portal at

http://www.regulations.gov.

Comments Submitted by Mail, Fax, or In Person: Address or deliver your written, signed comments to the Docket Management System, U.S. Department of Transportation, Room Plaza 401, 400 Seventh Street, SW., Washington, DC 20590-0001; Fax: 202-493-2251.

See SUPPLEMENTARY INFORMATION for format and other information about comment submissions.

FOR FURTHER INFORMATION CONTACT: Lisa S. Dean, Privacy Officer, Office of Transportation Security Policy, TSA-9, 601 South 12th Street, Arlington, VA 22202-4220; telephone (571) 227-3947; facsimile (571) 227-2555.

SUPPLEMENTARY INFORMATION:

Comments Invited

TSA invites interested persons to participate by submitting written comments, data, or views. See ADDRESSES above for information on where to submit comments.

With each comment, please include your name and address, identify the docket number at the beginning of your comments, and give the reason for each comment. The most helpful comments reference a specific portion of the document, explain the reason for any recommended change, and include supporting data. You may submit comments and material electronically, in person, by mail, or fax as provided under ADDRESSES, but please submit your comments and material by only one means. If you submit comments by mail or delivery, submit them in two copies, in an unbound format, no larger than 8.5 by 11 inches, suitable for copying and electronic filing.

If you want TSA to acknowledge receipt of comments submitted by mail, include with your comments a self-addressed, stamped postcard on which the docket number appears. We will stamp the date on the postcard and mail it to you.

TSA will file in the public docket all comments received, except for comments containing confidential information and sensitive security information (SSI) ¹, TSA will consider all comments received on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the rulemaking. Comments containing this type of information should be appropriately marked as containing such information and submitted by mail the address listed in FOR FURTHER INFORMATION CONTACT section.

TSA will not place such comments in the public docket, but rather, will handle these comments in accordance with applicable safeguards and restrictions on access. TSA will hold them in a separate file to which the public does not have access, and place a note in the public docket that TSA has received such materials from the commenter. If TSA receives a request to examine or copy this information, TSA will treat it as any other request under the Freedom of Information Act (FOIA) (5 U.S.C. 552) and the Department of Homeland Security's (DHS') FOIA regulation found in 6 CFR part 5.

Reviewing Comments in the Docket

Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

You may review the comments in the public docket by visiting the Dockets Office between 9 a.m. and 5 p.m., Monday through Friday, except Federal holidays. The Dockets Office is located on the plaza level of the Nassif Building at the Department of Transportation address, previously provided under ADDRESSES. Also, you may review public dockets on the Internet at

http://dms.dot.gov.

Availability of Document

You can get an electronic copy using the Internet by—

(1) Searching the Department of Transportation's electronic Docket Management System (DMS) Web page (http://dms.dot.gov/search);

(2) Accessing the Government Printing Office's Web page at http://www.gpoaccess.gov/fr/index.html; or

(3) Visiting TSA's Law and Policy Web page at http://www.tsa.gov and accessing the link for “Law and Policy” at the top of the page.

In addition, copies are available by writing or calling the individual in the FOR FURTHER INFORMATION CONTACT section. Make sure to identify the docket number(s) of this document.

Background

TSA is altering two existing systems of records under the Privacy Act of 1974. The first, the Transportation Security Threat Assessment System (T-STAS) (DHS/TSA 002), facilitates the performance of threat assessments and employment investigations on individuals who require special access to the transportation system, and was last amended in a notice published in the Federal Register on December 10, 2004 (69 FR 71837).

The second, the Registered Traveler (RT) Operations Files (DHS/TSA 015), relates to a pilot project designed to positively identify certain travelers who volunteer to participate in the program. The program may expedite the pre-boarding process and improve allocation of TSA resources. Information concerning the RT program was last published in the Federal Register on June 1, 2004 (69 FR 30948).

TSA is in the process of improving its direct access to certain governmental databases used in performing security threat assessments in order to more efficiently perform such assessments. The improved access will result in the individuals covered by these databases being added to TSA record systems. Accordingly, TSA is amending the “Categories of individuals covered by the system” portions of T-STAS and RT systems of records by adding, at the end of the list of individuals, a new category to include: “Known or suspected terrorists identified in the Terrorist Screening Database (TSDB) of the Terrorist Screening Center (TSC); individuals identified by TSA who are on the Selectee List because they pose a viable threat to civil aviation or national security; and individuals on classified and unclassified governmental terrorist, law enforcement, immigration, or intelligence databases, including databases maintained by the Department of Defense, National Counterterrorism Center, or Federal Bureau of Investigation.”

TSA is also making further amendments to the “Categories of individuals covered by the system” and to the “Categories of records in the system” in the T-STAS system, which it is not making to the RT system, by expanding and clarifying various sections as follows:

(1) Adding a new category (l) to the categories of individuals, to expressly include individuals seeking to become, or qualified as, known shippers. These individuals are currently covered by category (g) “Other individuals who are connected to the transportation industry for whom TSA conducts security threat assessments to ensure transportation security,” but express identification in a new category (l) will clarify that this system covers these individuals.

(2) Adding the term “shipping venues” to the introductory paragraph of the categories of individuals, and revising category (9) of “Routine uses of records maintained in the system, including categories of users and the purposes of such uses” section to reflect that TSA will disclose information to air carriers and indirect air carriers regarding individuals who contract for, or seek access to, transportation infrastructure or assets.

(3) Including in the introductory paragraph of the categories of individuals, individuals seeking, or being provided access to, Sensitive Security Information or Classified information provided in connection with transportation security matters.

(4) Modifying the first sentence of “Categories of individuals covered by this system,” and category (a) of the “Purpose(s)” sections to clarify that the system covers all types of evaluations performed for security purposes.

(5) Revising categories (d) and (p), and adding a new category (u) at the end of the list of records in the “Categories of records in the system,” as follows:

• Current category (d) covers various forms of Government-issued licensing or identification information. The category is being revised to expressly reflect the inclusion of citizenship and immigration records, alien registration numbers, and visa information. These items are currently listed in category (o) and will be repeated in (d) to clarify that such records are not limited to travel documents, as they are listed in category (o).

• Current category (p) covers criminal history records obtained from the Federal Bureau of Investigation (FBI). This category is being revised to include other criminal history records, such as Department of Defense and some state and local criminal history records. While these records are described in existing category of record (r) “Other information provided by Federal, State, and local government agencies or private entities,” TSA has determined that amending the category of records will clarify that criminal history records from several sources may be part of this system.

• TSA is adding a new category (u) to include suitability testing and results of such testing. This expansion of the category of records is intended to cover any tests that transportation-related employees or contractors may be required to undergo.

The complete revised notice of the systems of records follows.

System of Records

DHS/TSA 002

System name:

Transportation Security Threat Assessment System (T-STAS).

Security classification:

Classified, Sensitive.

System location:

Records are maintained at the Transportation Security Administration (TSA) Headquarters, 601 South 12th Street, Arlington, VA 22202. Some records may also be maintained at the offices of TSA contractors, or in TSA field offices.

Categories of individuals covered by the system:

Individuals who undergo a security threat assessment, employment investigation, or other evaluation performed for security purposes, in order to obtain access to the following: transportation infrastructure or assets, such as terminals, facilities, pipelines, railways, mass transit, vessels, aircraft, or vehicles; restricted airspace; passenger baggage; cargo; shipping venues; Sensitive Security Information or Classified information provided in connection with transportation security matters; or transportation-related instruction or training (such as flight training). This includes, but is not limited to, the following individuals:

(a) Individuals who require or seek access to airport secured, sterile, or a Security Identification Display Area (SIDA); have or seek unescorted access authority to these areas; have or seek authority to grant others unescorted access to these areas; have or seek regular escorted access to these areas; or are seeking identification that is evidence of employment at the airport.

(b) Individuals who have or are seeking responsibility for screening passengers or carry-on baggage, and those persons serving as immediate supervisors and the next supervisory level to those individuals, other than employees of the TSA who perform or seek to perform these functions.

(c) Individuals who have or are seeking responsibility for screening checked baggage or cargo, and their immediate supervisors, and the next supervisory level to those individuals, other than employees of the TSA who perform or seek to perform these functions.

(d) Individuals who have or are seeking the authority to accept checked baggage for transport on behalf of an aircraft operator that is required to screen passengers.

(e) Pilots, copilots, flight engineers, flight navigators, airline personnel authorized to fly in the cockpit, relief or deadheading crewmembers, cabin crew, and other flight crew for an aircraft operator or foreign air carrier that is required to adopt and carry out a security program.

(f) Flight crews and passengers who request waivers of temporary flight restrictions (TFRs) or other restrictions pertaining to airspace.

(g) Other individuals who are connected to the transportation industry for whom TSA conducts security threat assessments to ensure transportation security.

(h) Individuals who have or are seeking unescorted access to cargo in the transportation system.

(i) Individuals who are owners, officers, or directors of an indirect air carrier or a business seeking to become an indirect air carrier.

(j) Aliens or other individuals designated by TSA who apply for flight training or recurrent training.

(k) Individuals transported on all-cargo aircraft, including aircraft operator or foreign air carrier employees and their family members and persons transported for the flight.

(l) Individuals seeking to become, or qualified as, known shippers.

(m) Known or suspected terrorists identified in the Terrorist Screening Database (TSDB) of the Terrorist Screening Center (TSC); individuals identified by TSA who are on the Selectee List because they pose a viable threat to civil aviation or national security; and individuals on classified and unclassified governmental terrorist, law enforcement, immigration, or intelligence databases, including databases maintained by the Department of Defense, National Counterterrorism Center, or Federal Bureau of Investigation.

Categories of records in the system:

TSA's system may contain any, or all, of the following information regarding individuals covered by this system:

(a) Full name (including aliases or variations of spelling).

(b) Gender.

(c) Current and historical contact information (including, but not limited to, address information, telephone number, and e-mail).

(d) Government-issued licensing or identification information (including, but not limited to, social security number; pilot certificate information, including number and country of issuance; current and past citizenship information; immigration status; alien registration numbers; visa information; and other licensing information for modes of transportation).

(e) Date and place of birth.

(f) Name and information, including contact information and identifying number (if any) of the airport, aircraft operator, indirect air carrier, maritime or land transportation operator, or other employer or entity that is employing the individual, or submitting the individual's information, or sponsoring the individual's background check/threat assessment.

(g) Physical description, fingerprint and/or other biometric identifier, and photograph.

(h) Date, place, and type of flight training or other instruction.

(i) Control number or other unique identification number assigned to an individual or credential.

(j) Information necessary to assist in tracking submissions, payments, and transmission of records.

(k) Results of any analysis performed for security threat assessments and adjudications.

(l) Other data as required by Form FD 258 (fingerprint card) or other standard fingerprint cards used by the Federal Government.

(m) Information provided by individuals covered by this system in support of their application for an appeal or waiver.

(n) Flight information, including crew status on board.

(o) Travel document information (including, but not limited to, passport information, including number and country of issuance; and current and past citizenship information and immigration status, any alien registration numbers, and any visa information).

(p) Criminal history records.

(q) Data gathered from foreign governments or entities that is necessary to address security concerns in the aviation, maritime, or land transportation systems.

(r) Other information provided by Federal, State, and local government agencies or private entities.

(s) The individual's level of access at an airport.

(t) The individual's military service history.

(u) Suitability testing and results of such testing.

Authority for maintenance of the system:

49 U.S.C. 114, 5103a, 40103(b)(3), 40113(a), 44903(b), 44936, 44939, 46105.

Purpose(s):

(a) Performance of security threat assessments, employment investigations, and evaluations performed for security purposes that Federal statutes and/or TSA regulations authorize for the individuals identified in “Categories of individuals covered by the system,” above.

(b) To assist in the management and tracking of the status of security threat assessments, employment investigations, and evaluations performed for security purposes.

(c) To permit the retrieval of the results of security threat assessments, employment investigations, and evaluations performed for security purposes; including criminal history records checks and searches in other governmental, commercial, and private data systems, performed on the individuals covered by this system.

(d) To permit the retrieval of information from other terrorist-related, law enforcement and Intelligence databases on the individuals covered by this system.

(e) To track the fees incurred, and payment of those fees, by the airport operators, aircraft operators, maritime and land transportation operators, flight students, and others, where appropriate, for services related to security threat assessments, employment investigations, and evaluations performed for security purposes.

(f) To facilitate the performance of security threat assessments and other investigations that TSA may conduct to ensure transportation security.

Routine uses of records maintained in the system, including categories of users and the purposes of such uses:

(1) To the United States Department of Transportation, its operating administrations, or the appropriate State or local agency, when relevant or necessary to—

(a) Ensure safety and security in any mode of transportation;

(b) Enforce safety- and security-related regulations and requirements;

(c) Assess and distribute intelligence or law enforcement information related to transportation security;

(d) Assess and respond to threats to transportation;

(e) Oversee the implementation and ensure the adequacy of security measures at airports and other transportation facilities;

(f) Plan and coordinate any actions or activities that may affect transportation safety and security or the operations of transportation operators; or

(g) The issuance, maintenance, or renewal of a license, endorsement, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To the appropriate Federal, State, local, tribal, territorial, foreign, or international agency regarding individuals who pose, or are suspected of posing, a risk to transportation or national security.

(4) To contractors, grantees, experts, consultants, volunteers, or other like persons, when necessary to perform a function or service related to this system of records for which they have been engaged. Such recipients are required to comply with the Privacy Act, 5 U.S.C. 552a, as amended.

(5) To a Federal, State, local, tribal, territorial, foreign, or international agency, where such agency has requested information relevant or necessary for the hiring or retention of an individual; or the issuance of a security clearance, license, endorsement, contract, grant, waiver, credential, or other benefit.

(6) To a Federal, State, local, tribal, territorial, foreign, or international agency, if necessary to obtain information relevant to a TSA decision concerning the hiring or retention of an employee; the issuance of a security clearance, license, endorsement, contract, grant, waiver, credential, or other benefit.

(7) To international and foreign governmental authorities, in accordance with law and formal or informal international agreement.

(8) To third parties during the course of a security threat assessment, employment investigation, or adjudication of a waiver or appeal request, to the extent necessary to obtain information pertinent to the assessment, investigation, or adjudication.

(9) To airport operators, indirect air carriers, aircraft operators, flight school operators, and maritime and land transportation operators or contractors about individuals; when relevant to the individual's employment, application, contract, issuance of credentials or clearances, acceptance for flight training, or access to transportation infrastructure or assets.

(10) To a Federal, State, local, tribal, territorial, foreign, or international agency so that TSA may obtain information to conduct security threat assessments or employment investigations and to facilitate any associated payment and accounting.

(11) To the Department of Justice (DOJ) or other Federal agency in the review, settlement, defense, and prosecution of claims, complaints, and lawsuits involving matters over which TSA exercises jurisdiction; or when conducting litigation, or in proceedings, before any court, adjudicative or administrative body, when: (a) TSA; or (b) any employee of TSA in his/her official capacity; or (c) any employee of TSA in his/her individual capacity, where DOJ or TSA has agreed to represent the employee; or (d) the United States or any agency thereof, is a party to the litigation, or has an interest in such litigation, and TSA determines that the records are both relevant and necessary to the litigation and the use of such records is compatible with the purpose for which TSA collected the records.

(12) To a congressional office from the record of an individual, in response to an inquiry from that congressional office made at the request of the individual.

(13) To the National Archives and Records Administration, or other appropriate Federal agency, pursuant to records management inspections being conducted under the authority of 44 U.S.C. 2904 and 2906.

Disclosure to consumer reporting agencies:

None.

Policies and practices for storing, retrieving, accessing, retaining, and disposing of records in the system:

Storage:

In electronic storage media and hard copy.

Retrievability:

Information can be retrieved by name, social security number, identifying number of the submitting or sponsoring entity, other case number assigned by TSA or other entity/agency, biometric, or a unique identification number, or any other identifying particular assigned or belonging to the individual.

Safeguards:

All records are protected from unauthorized access through appropriate administrative, physical, and technical safeguards. These safeguards include some or all of the following: restricting access to those authorized with a need-to-know; using locks, alarm devices, and passwords; compartmentalizing databases; auditing software; and encrypting data communications.

Retention and disposal:

National Archives and Records Administration approval is pending for the records in this system.

System manager(s) and address:

Assistant Director for Compliance, Transportation Threat Assessment & Credentialing Office, TSA-19, Transportation Security Administration, 601 South 12th Street, Arlington, VA 22202-4220.

Notification procedure:

To determine whether this system contains records relating to you, write to the System Manager identified above.

Record access procedure:

Same as “Notification Procedure,” above. Provide your full name and a description of information that you seek, including the time frame during which the record(s) may have been generated. Individuals requesting access must comply with the Department of Homeland Security Privacy Act regulations on verification of identity (6 CFR 5.21(d)).

Contesting record procedure:

Same as “Notification Procedure” and “Record Access Procedure,” above.

Record source categories:

Information is collected from individuals subject to a security threat assessment, employment investigation, or other security analysis; from aviation, maritime, and land transportation operators, flight schools, or other persons sponsoring the individual; and any other persons, including commercial entities that may have information that is relevant or necessary to the assessment or investigation. Information about individuals is also used or collected from domestic and international intelligence sources and other governmental, private, and public databases. The sources of information in the criminal history records obtained from the Federal Bureau of Investigation (FBI) are set forth in the Privacy Act system of records notice “JUSTICE/FBI-009.”

Exemptions claimed for the system:

Portions of this system are exempt under 5 U.S.C. 552a(k)(1), (k)(2), and (k)(6). In addition, to the extent a record contains information from other exempt systems of records, TSA will rely on the exemptions claimed for those systems.

DHS/TSA 015

System name:

Registered Traveler (RT) Operations Files.

Security classification:

Classified, sensitive.

System location:

Records will be maintained at TSA Headquarters in Arlington, Virginia; at other authorized TSA or DHS secure facilities, as necessary; and at a digital safe site managed by a Government contractor.

Categories of individuals covered by the system:

(a) Individuals who voluntarily apply to participate in the RT Pilot Program, who agree to provide personal information to TSA that may be used as part of a security assessment, and who may or may not meet the eligibility criteria as determined by TSA;

(b) Authorized Federal law enforcement officers (LEOs);

(c) Individuals who participate in the Federal Flight Deck Officer (FFDO) program; and

(d) Known or suspected terrorists identified in the Terrorist Screening Database (TSDB) of the Terrorist Screening Center (TSC); individuals identified by TSA who are on the Selectee List because they pose a viable threat to civil aviation or national security; and individuals on classified and unclassified governmental terrorist, law enforcement, immigration, or intelligence databases, including databases maintained by the Department of Defense, National Counterterrorism Center, or Federal Bureau of Investigation.

Categories of records in the system:

Information in the system includes some, or all, of the following:

(a) Full name.

(b) Current home address.

(c) Current home phone number.

(d) Current cell phone number (if applicable).

(e) Social security number.

(f) Date of birth.

(g) Place of birth.

(h) Nationality.

(i) Gender.

(j) Prior home addresses.

(k) Arrival date in United States (non-U.S. citizens only).

(l) Digital photo.

(m) Reference biometric (i.e. fingerprint(s), iris scan, facial geometry, hand geometry, handwriting/signature, others).

(n) Unique identification record number.

(o) Unique token or credential serial number.

(p) Security assessments.

(q) Information pertaining to adjudication results.

(r) RT eligibility status.

(s) Token or credential issue date.

(t) Token or credential expiration date.

(u) Information and data provided by Federal, State, and local government agencies and foreign governments that is necessary to conduct a security assessment to determine if an individual poses a potential threat to aviation security.

(v) Authorized Federal LEOs may have a Federal LEO code name and unique administrative code number.

Authority for maintenance of the system:

49 U.S.C. 114; Sec. 109(a)(3), Aviation and Transportation Security Act (ATSA), Pub. L. 107-71.

Purpose(s):

The system utilized during the RT Pilot Program will facilitate the development, testing, and administration of the RT concept, including conducting security assessments on program applicants; additional security assessments may or may not be conducted on authorized LEOs, FFDOs, and other authorized government officials. The purpose of the RT pilot program is to—

(1) Pre-screen and positively identify volunteer travelers using advanced identification technologies, including biometrics, which may expedite the pre-boarding process for the traveler and improve the allocation of TSA's security resources on individuals who may pose a security threat;

(2) Prevent potential threats from individuals who are impersonating Federal LEOs and seek to board commercial aircraft while armed;

(3) Assist in the management and tracking of the status of security assessments for applicants and those deemed eligible for the Registered Traveler Pilot Program;

(4) Permit the retrieval of the results of security assessments, including criminal history records checks and searches in other governmental identification systems, performed on the individuals covered by this system;

(5) Permit the retrieval of information from other law enforcement and intelligence databases on individuals covered by this system; and

(6) Identify potential threats to transportation security, uphold and enforce the law, and ensure public safety.

Routine uses of records maintained in the system, including categories of users and the purposes of such uses:

(1) To the United States Department of Transportation, its operating administrations, or the appropriate State or local agency, when relevant or necessary to—

(a) Ensure safety and security in any mode of transportation;

(b) Enforce safety and security related regulations and requirements;

(c) Assess and distribute intelligence or law enforcement information related to transportation security;

(d) Assess and respond to threats to transportation;

(e) Oversee the implementation and ensure the adequacy of security measures at airports and other transportation facilities;

(f) Plan and coordinate any actions or activities that may affect transportation safety and security or the operations of transportation operators; or

(g) The issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers, when necessary to perform a function or service related to this system of records for which they have been engaged. Such recipients are required to comply with the Privacy Act, 5 U.S.C. 552a, as amended.

(4) To airports and aircraft operators, to the extent necessary to identify Registered Travelers and ensure the proper ticketing, security screening, and boarding of those passengers.

(5) To a Federal, State, local, tribal, territorial, foreign, or international agency, in response to queries regarding persons who may pose a risk to transportation or national security; a risk of air piracy or terrorism or a threat to airline or passenger safety; or a threat to aviation safety, civil aviation, or national security.

(6) To the Department of State and other Intelligence Community agencies, to further the mission of those agencies relating to persons who may pose a risk to transportation or national security; a risk of air piracy or terrorism or a threat to airline or passenger safety; a threat to aviation safety, civil aviation, or national security.

(7) To international and foreign governmental authorities, in accordance with law and formal or informal international agreement.

(8) To authorized law enforcement and other Government agencies, as necessary, to conduct the security assessments and, if applicable, to facilitate payment and accounting.

(9) To the Department of Justice (DOJ) in review, settlement, defense, and prosecution of claims, complaints, and lawsuits involving matters over which TSA exercises jurisdiction.

(10) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(11) To a congressional office from the record of an individual in response to an inquiry from that congressional office made at the request of the individual.

(12) To the General Services Administration and the National Archives and Records Administration in records management inspections being conducted under the authority of 44 U.S.C. 2904 and 2906.

(13) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

Disclosure to consumer reporting agencies:

None.

Policies and practices for storing, retrieving, accessing, retaining, and disposing of records in the system:

Storage:

Records may be stored on magnetic disc, tape, digital media, CD-ROM, bar code, magnetic stripe, optical memory stripe, disk, integrated circuit chip, and/or other approved technologies and may also be retained in hard copy format in secure file folders.

Retrievability:

Records may be retrieved by the applicant's name, unique identification record number, or other unique administrative identifier; paper records, where applicable, are retrieved alphabetically by name or other unique administrative identifier.

Safeguards:

Information in this system is safeguarded in accordance with applicable rules and policies, including any applicable TSA and DHS automated systems security and access policies. The computer system from which records could be accessed is policy and security based, meaning access is limited to those individuals who require it to perform their official duties. The system also maintains a real-time auditing function of individuals who access the system. Classified information is appropriately stored in a secured facility, secured databases, and containers and in accordance with other applicable requirements, including those pertaining to classified information.

Retention and disposal:

Records in this system will be retained and disposed of in accordance with the National Archives and Records Administration's General Records Schedule 20.

System manager and address:

Registered Traveler Program Manager, Transportation Threat Assessment & Credentialing, TSA-19, Transportation Security Administration, 601 South 12th Street, Arlington, VA 22202-4220.

Notification procedure:

To determine if this system contains a record relating to you, write to the system manager at the address indicated above and provide your full name, current address, date of birth, place of birth, and a description of information that you seek, including the time frame during which the record(s) may have been generated. You may also provide your Social Security Number or other unique identifier(s), but you are not required to do so. Individuals requesting access must comply with the Department of Homeland Security's Privacy Act regulations on verification of identity (6 CFR 5.21(d)).

Record access procedure:

Same as “notification procedure,” above.

Contesting record procedure:

Same as “notification procedure,” above.

Record source categories:

Information contained in this system may be obtained from the RT applicant, law enforcement and intelligence agency record systems, government and commercial databases, military and National Guard records, and other Department of Homeland Security systems.

Exemptions claimed for the system:

Portions of this system are exempt from 5 U.S.C. 552a(c)(3), (d), (e)(1), (e)(4)(G), (H), and (I), and (f) pursuant to 5 U.S.C. 552a(k)(1) and (k)(2). In addition, to the extent a record contains information from other exempt systems of records, TSA will rely on the exemptions claimed for those systems.

Issued in Arlington, Virginia, on October 26, 2005.
Lisa S. Dean,
Privacy Officer.

[FR Doc. 05-22124 Filed 11-7-05; 8:45 am]

BILLING CODE 4910-62-P